ENVIRONMENTAL PROTECTION AGENCY

[CERCLA-02-2019-2008; FRL-10014-05-Region 2]

Proposed Administrative Settlement Agreement and Order on Consent for Removal Action for the Pure Earth Recycling Superfund Site, City of Vineland, Cumberland County, New Jersey

AGENCY: Environmental Protection Agency.

ACTION: Notice; request for public comment.

SUMMARY: In accordance with the Comprehensive Environmental Response, Compensation, and Liability Act of 1980, as amended (“CERCLA”), notice is hereby given that the U.S. Environmental Protection Agency (“EPA”), Region 2, has entered into a proposed settlement, embodied in an Administrative Settlement Agreement and Order on Consent for Removal Action (“Settlement Agreement”), with Consolidated Edison Company of New York, Inc.; Exxon Mobil Corporation and ExxonMobil Oil Corp.; Hess Corporation; International-Matex Tank Terminals LLC; Infineum USA L.P.; Lorco Petroleum Services; National Grid USA; Patrick J. Kelly Drums, Inc.; Philadelphia Gas Works, by the Philadelphia Facilities Management Corporation; Public Service Electric and Gas Company (“PSE&G”) (and its affiliate, PSEG Fossil, LLC); Sasol North America Inc. and Sasol Chemicals (USA) LLC; and Superfund Management Operations, a series of Evergreen Resources Group, LLC on behalf of itself and ETC Sunoco Holdings LLC f/k/a Sunoco, Inc. (collectively “Respondents”).

DATES: Comments must be submitted on or before October 22, 2020.

ADDRESSES: Comments can be sent via email to Clay Monroe at monroe.clay@epa.gov. Comments should reference the Pure Earth Recycling Superfund Site, City of Vineland, New Jersey, Administrative Settlement Agreement and Order on Consent for Removal Action, Index No. CERCLA-02-2019-2008.

The proposed Settlement Agreement is available for public inspection at this weblink: https://semspub.epa.gov/src/document/02/615528.

FOR FURTHER INFORMATION CONTACT: Clay Monroe, Attorney, Office of Regional Counsel, New Jersey Superfund Branch, U.S. Environmental Protection Agency. Email: monroe.clay@epa.gov. Telephone: 212-637-3142.

SUPPLEMENTARY INFORMATION: Under the Settlement Agreement, the Respondents agree to carry out a removal action to remove sludge from an above-ground storage tank at the Pure Earth Recycling Superfund Site (“Site”). In addition, the Respondents agree to pay a portion of the past costs incurred by EPA at the Site (“Past Response Costs”) and certain future response costs to be incurred by EPA during the removal action (“Future Response Costs”).

Notice of this proposed administrative settlement is made in accordance with section 122(i) of CERCLA. The Settlement Agreement concerns a removal action to be performed at the Site by the Respondents. The performance of this work by the Respondents will be approved and monitored by EPA. Under the Settlement Agreement EPA will also receive from the Respondents a payment of $750,000.00 in partial reimbursement for Past Response Costs incurred by EPA with respect to the Site. This represents a compromise payment for Past Response Costs. The Settlement Agreement provides, in exchange for the work and above payment, a covenant not to sue by EPA or to take administrative action against the Respondents pursuant to Sections 106 and 107(a) of CERCLA, 42 U.S.C. 9606 and 9607(a), with regard to Work, Past Response Costs, or Future Response Costs.

For thirty (30) days following the date of publication of this notice, EPA will receive written comments relating to the Settlement Agreement. EPA will consider all comments received and may modify or withdraw its consent to the settlement if comments received disclose facts or considerations that indicate that the proposed settlement is inappropriate, improper, or inadequate. EPA's response to any comments received will be available for public inspection online and/or at EPA Region 2, 290 Broadway, New York, NY 10007-1866.

Dated: September 16, 2020.
Pasquale Evangelista,
Director, Superfund & Emergency Management Division, U.S. Environmental Protection Agency, Region 2.

[FR Doc. 2020-20813 Filed 9-21-20; 8:45 am]

BILLING CODE 6560-50-P